FEDERAL COMMUNICATIONS COMMISSION

[CC Docket No. 92-237; DA 02-1487]

Next Meeting of the North American Numbering Council

AGENCY: Federal Communications Commission.

ACTION: Notice.

SUMMARY: On June 28, 2002, the Commission released a public notice announcing the July 17-18, 2002 meeting and agenda of the North American Numbering Council (NANC). The intended effect of this action is to make the public aware of the NANC's next meeting and its agenda.

FOR FURTHER INFORMATION CONTACT: Deborah Blue, Special Assistant to the Designated Federal Officer (DFO) at (202) 418-1466 or dblue@fcc.gov. The address is: Telecommunications Access Policy Division, Wireline Competition Bureau, Federal Communications Commission, The Portals II, 445 12th Street, SW, Suite 5-A420, Washington, DC 20554. The fax number is: (202) 418-2345. The TTY number is: (202) 418-0484.

SUPPLEMENTARY INFORMATION: Released: June 28, 2002.

The North American Numbering Council (NANC) has scheduled a meeting to be held Wednesday July 17, 2002, from 8:30 a.m. until 5 p.m., and on Thursday, July 18, 2002, from 8:30 a.m., until 12 noon (if required). The meeting will be held at the Federal Communications Commission, Portals II, 445 12th Street, SW, Room TW-C305, Washington, DC.

This meeting is open to members of the general public. The FCC will attempt to accommodate as many participants as possible. The public may submit written statements to the NANC, which must be received two business days before the meeting. In addition, oral statements at the meeting by parties or entities not represented on the NANC will be permitted to the extent time permits. Such statements will be limited to five minutes in length by any one party or entity, and requests to make an oral statement must be received two business days before the meeting. Requests to make an oral statement or provide written comments to the NANC should be sent to Deborah Blue at the address under FOR FURTHER INFORMATION CONTACT, stated above.

Proposed Agenda—Wednesday, July 17, 2002

1. Announcements and Recent News

2. Approve Minutes

—Meeting of May 21-22, 2002

3. Report of North American Numbering Plan Administrator (NANPA)

—NANP Exhaust Results

—NPA Relief Planning Status Report

—CO Code Activity Report

—NRUF Update

—Update on Return Codes with Ported TNs

—Review of NANPA Performance Improvement Plan (PIP)

—Review of NANC Chairman letter to FCC re Change Management Administration contractor

4. Update on Selection of Next NANPA

—Issuance of Requirements Document

—Procurement Schedule

5. Report of NANP Expansion/Optimization IMG

6. Review of Oversight Working Groups

—Regular Report of NANPA Oversight Working Group (NOWG)

—Formation of Pooling Administrator Oversight Working Group (PAOWG)

—Rechartering NOWG

—Two WG's or one?

7. Status of Industry Numbering Committee activities

8. Report of the Local Number Portability Administration (LNPA) Working Group

Wireless Number Portability Operations (WNPO) Subcommittee

—WNPO/CTIA: Status of meeting the Nov. 24, 2002 pooling and porting deadline

9. Report of National Thousands-Block Pooling Administrator

10. Report of NAPM LLC

11. Report from NBANC

—Status of next NBANC contract

12. Report of Cost Recovery Working Group

13. Report of E-Conferencing Subcommittee

14. Steering Committee

—Table of NANC Projects

15. Report of Steering Committee

16. Action Items

17. Public Participation (5 minutes each)

18. Other Business

Adjourn (no later than 5:00 p.m.) Thursday, July 18, 2002 (if required)

19. Complete any unfinished Agenda Items

20. Other Business

Adjourn (no later than 12:00 Noon)

Next meeting: September 24-25, 2002.

Federal Communications Commission.
Sanford S. Williams,
Attorney, Telecommunications Access Policy Division, Wireline Competition Bureau.

[FR Doc. 02-16872 Filed 7-3-02; 8:45 am]

BILLING CODE 6712-01-P